FEDERAL MARITIME COMMISSION

Ocean Transportation Intermediary License Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 2739NF.

Name: Alison Transport, Inc.

Address: 1800-A Access Road, Oceanside, NY 11572.

Date Revoked: January 28, 2011.

Reason: Failed to maintain valid bonds.

License Number: 2763F.

Name: Logistics & Transportation Services Inc.

Address: 7150 Troy Hill Drive, Elkridge, MD 21075.

Date Revoked: January 21, 2011.

Reason: Surrendered license voluntarily.

License Number: 009852N.

Name: East-West Express, Inc. dba East West Line.

Address: 17100 Pioneer Blvd., Suite 345, Artesia, CA 90701.

Date Revoked: January 14, 2011.

Reason: Failed to maintain a valid bond.

License Number: 017089NF.

Name: Mohawk Customs & Shipping (Rochester), LLC dba Mohawk Global Logistics (ROC).

Address: 52 Marway Circle, Suite 1, Rochester, NY 14624.

Date Revoked: January 7, 2011.

Reason: Surrendered license voluntarily.

License Number: 017678N.

Name: Four Link International, Inc.

Address: 146-27 167th Street, Suite 100, Jamaica, NY 11434.

Date Revoked: January 27, 2011.

Reason: Failed to maintain a valid bond.

License Number: 018491NF.

Name: Independent Brokerage, L.L.C. dba IBL Worldwide Express.

Address: 1001 Virginia Avenue, Suite 150, Atlanta, GA 30354.

Date Revoked: January 19, 2011.

Reason: Surrendered license voluntarily.

License Number: 019544NF.

Name: Japan Star America, Inc. dba Innex America.

Address: 550 E. Carson Plaza Drive, Suite 109, Carson, CA 90746.

Date Revoked: January 27, 2011.

Reason: Failed to maintain valid bonds.

License Number: 020056N.

Name: A.M.C. Shipping, LLC.

Address: 79 Edna Avenue, Bridgeport, CT 06610.

Date Revoked: January 15, 2011.

Reason: Failed to maintain a valid bond.

License Number: 020259N.

Name: Unique Logistics International (LAX) Inc.

Address: 16330 Marquardt Avenue, Cerritos, CA 90703.

Date Revoked: January 18, 2011.

Reason: Surrendered license voluntarily.

License Number: 020600N.

Name: Noel N. Griffin dba Duncan International Shipping.

Address: 1082 Rogers Avenue, Brooklyn, NY 11226.

Date Revoked: January 22, 2011.

Reason: Failed to maintain a valid bond.

License Number: 021165N.

Name: United Marine Management.

Address: 969 S. Village Oaks Drive, Suite 208, Covina, CA 91724.

Date Revoked: January 28, 2011.

Reason: Failed to maintain a valid bond.

License Number: 021240N.

Name: Fusion Freight, Inc.

Address: 8181 NW 36th Street, Suite 13-C, Doral, FL 33166.

Date Revoked: January 29, 2011.

Reason: Failed to maintain a valid bond.

License Number: 021268N.

Name: Scan Global Logistics, Inc.

Address: 768 South Central Avenue, Suite 200, Atlanta, GA 30354.

Date Revoked: January 15, 2011.

Reason: Failed to maintain a valid bond.

License Number: 022436NF.

Name: RLE International, Inc.

Address: 8243 NW 66th Street, Miami, FL 33166.

Date Revoked: January 27, 2011.

Reason: Failed to maintain valid bonds.

License Number: 021504F.

Name: Onward Shipping & Clearing Service Inc.

Address: 2305 Oak Lane, Suite 201B, Grand Prairie, TX 75051.

Date Revoked: January 10, 2011.

Reason: Surrendered license voluntarily.

License Number: 021894NF.

Name: Call Rapido, LLC.

Address: 9614 Pondwood Road, Boca Raton, FL 33428.

Date Revoked: January 18, 2011.

Reason: Surrendered license voluntarily.

Sandra L. Kusumoto,
Director, Bureau of Certification and Licensing.

[FR Doc. 2011-4210 Filed 2-24-11; 8:45 am]

BILLING CODE 6730-01-P